DEPARTMENT OF TRANSPORTATION

National Highway Traffic Safety Administration

49 CFR Part 571

[Docket No. NHTSA-03-17032]

Federal Motor Vehicle Safety Standards; Fuel System Integrity

AGENCY: National Highway Traffic Safety Administration (NHTSA), Department of Transportation (DOT).

ACTION: Final rule, correcting amendment.

SUMMARY: This document contains a correction to the final rule published on December 1, 2003 (68 FR 67068), that amended the rear and side impact test procedures for the fuel system integrity.

DATES: The effective date of this final rule is April 12, 2004. Petitions for reconsideration must be submitted so they are received by the agency March 29, 2004.

ADDRESSES: Petitions for reconsideration must be identified by the Docket Number in the title to this document and submitted to: Administrator, National Highway Traffic Safety Administration, 400 Seventh St., SW., Washington, DC 20590.

FOR FURTHER INFORMATION CONTACT: For technical and other non-legal issues, you may call Dr. William J.J. Liu, Office of Crashworthiness Standards (Telephone: 202-366-2264) (Fax: 202-366-4329).

For legal issues, you may call Mr. Chris Calamita, Office of Chief Counsel (Telephone: 202-366-2992) (Fax: 202-366-3820).

You may send mail to both of these officials at the National Highway Traffic Safety Administration, 400 Seventh Street, SW., Washington, DC 20590.

SUPPLEMENTARY INFORMATION:

Background

The standard and regulation that are subject to this correction are Federal Motor Vehicle Safety Standard (FMVSS) No. 301, Fuel system integrity, and 49 CFR part 586, Fuel System Integrity Upgrade Phase-In. In December 2003, we published a final rule upgrading the rear impact test in FMVSS No. 301. To increase the stringency of the standard in order to save more lives and prevent more injuries, the final rule replaces the current full rear impact test procedure performed at 48 km/h (30 mph) with an offset rear impact test procedure specifying that only a portion of the width of the rear of the test vehicle be impacted at 80 km/h (50 mph). Under the new rear impact procedure, a lighter, deformable barrier is used. The final rule also replaces the standard's lateral (side) impact test procedure with the procedure specified in the agency's side impact protection standard at an impact speed range of 53 ± 1 km/h.

The rear impact test requirements of the final rule are being phased-in over a period of three years beginning September 1, 2006. During the phase-in, increasing percentages of motor vehicles will be required to meet the upgraded rear impact test.

Finally, the final rule revises part 586 to establish Fuel System Integrity Upgrade Phase-In Reporting Requirements.

Need for Correction

As published, the December 2003 final rule contained an error that needs correction. The final rule requires manufacturers of vehicles produced by more than one manufacturer to report to the agency the name of the manufacturer to which a vehicle will be attributed for purposes of the phase-in reporting. However, FMVSS No. 301, as amended by the final rule, references 49 CFR part 590 [Reserved], instead of part 586.

This correction amends S8.3.2 of FMVSS No. 301 to reference part 586.

Correction of Publication

List of Subjects in 49 CFR Part 571

Imports, Motor vehicle safety, Reporting and recordkeeping requirements.

In consideration of the foregoing, NHTSA is amending 49 CFR part 571 as follows:

PART 571—FEDERAL MOTOR VEHICLE SAFETY STANDARDS

1. The authority citation for part 571 continues to read as follows:

Authority: 49 U.S.C. 322, 30111, 30115, 30117, and 30166; delegation of authority at 49 CFR 1.50.

2. In Section 571.301, paragraph S8.3.2 is revised to read as follows:

§ 571.301 Standard No. 301; Fuel system integrity.

* * * * *

S8.3.2 A vehicle produced by more than one manufacturer must be attributed to any one of the vehicle's manufacturers specified by an express written contract, reported to the National Highway Traffic Safety Administration under 49 CFR part 586, between the manufacturer so specified and the manufacturer to which the vehicle would otherwise be attributed under S8.3.1.

* * * * *

Issued on: February 5, 2004.
Stephen R. Kratzke,
Associate Administrator for Rulemaking.

[FR Doc. 04-2995 Filed 2-10-04; 8:45 am]

BILLING CODE 4910-59-P